DEPARTMENT OF LABOR

Employment and Training Administration

[TA-W-59,439]

Dekko Technologies, Inc., A Division of Group Dekko, Mt. Ayr, IA; Notice of Termination of Investigation

Pursuant to section 221 of the Trade Act of 1974, as amended, an investigation was initiated on May 22, 2006 in response to a worker petition filed a company official on behalf of workers at Dekko Technologies, Inc., a division of Group Dekko, Mt. Ayr, Iowa.

The petitioner has requested that the petition be withdrawn. Consequently, the investigation has been terminated.

Signed at Washington, DC, this 14th day of June 2006.
Richard Church,
Certifying Officer, Division of Trade Adjustment Assistance.

[FR Doc. E6-11091 Filed 7-13-06; 8:45 am]

BILLING CODE 4510-30-P